DEPARTMENT OF LABOR

Employment and Training Administration

Amended Certification Regarding Eligibility To Apply for Worker Adjustment Assistance

TA-W-70, 405, Avaya Inc., Worldwide Services Group, Global Support Services (GSS) Organization; Including Workers Whose Unemployment Insurance (UI) Wages Are Reported Through Nortel Networks, Inc. Including On-Site Leased Workers From Kelly Services Inc., P/S Partner Solutions Ltd., Exceed Resources Inc., Real Soft, Inforquest Consulting Group, CCSI Inc., ICONMA LLC, MGD Consulting, Inc., Case Interactive LLC, Sapphire Technologies Highlands Ranch, Colorado, Including Employees In Support Of Avaya, Inc., Worldwide Services Group, Global Support Services (GSS) Organization Highlands Ranch, Colorado Operating Out Of The Following States:

TA-W-70,405A, Florida;

TA-W-70,405B, California;

TA-W-70,405C, South Carolina;

TA-W-70,405D, Alabama;

TA-W-70,405E, Michigan;

TA-W-70,405F, Arizona;

TA-W-70,405G, Ohio;

TA-W-70,405H, Pennsylvania;

TA-W-70,405I, North Carolina;

TA-W-70,405J, Colorado;

TA-W-70,405K, New York;

TA-W-70,405L, Maryland;

TA-W-70,405M, Georgia;

TA-W-70,405N, New Jersey;

TA-W-70,405O, Indiana;

TA-W-70,405P, Tennessee;

TA-W-70,405Q, Wisconsin;

TA-W-70,405R, Oregon;

TA-W-70,405S, Mississippi;

TA-W-70,405T, Illinois;

TA-W-70,405U, Texas;

TA-W-70,405V, Iowa;

TA-W-70,405W, Oklahoma;

TA-W-70,405X, Washington;

TA-W-70,405Y, South Dakota;

TA-W-70,405Z, Nevada;

TA-W-70,405AA, New Hampshire;

TA-W-70,405BB, Montana;

TA-W-70,405CC, Virginia;

TA-W-70,405DD, Massachusetts;

TA-W-70,405EE, Connecticut;

TA-W-70,405FF, Nebraska.

In accordance with section 223 of the Trade Act of 1974, as amended (“Act”), 19 U.S.C. 2273, the Department of Labor issued a Certification of Eligibility to Apply for Worker Adjustment Assistance on September 11, 2009, applicable to workers of Avaya Inc., Worldwide Services Group, Global Support Services (GSS) Organization, including on-site leased workers from Kelly Services Inc., P/S Partner Solutions Ltd., Exceed Resources Inc., Real Soft, InfoQuest Consulting Group, CCSI Inc., ICONMA LLC, MGD Consulting, Inc., Case Interactive LLC., and Sapphire Technologies, Highlands Ranch, Colorado. The notice was published in the Federal Register on November 5, 2009 (74 FR 57338). The notice was amended on March 17, 2010 and May 6, 2010. The notices were published in the Federal Register on April 1, 2010 (75 FR 16512-16513) and May 20, 2010 (75 FR 28298), respectively.

At the request of the State Agency, the Department reviewed the certification for workers of the subject firm. The workers provide technical support for communication systems.

New information shows that some workers separated from employment at Avaya, Inc., Worldwide Services Group, Global Support Services (GSS) Organization had their wages reported through a separate unemployment insurance (UI) tax account under the name Nortel Networks and Avaya, Inc.

Based on these findings, the Department is amending this certification to include workers whose unemployment (UI) wages are reported through Nortel Enterprises and Avaya, Inc.

The amended notice applicable to TA-W-70,405 is hereby issued as follows:

All workers of Avaya Inc., Worldwide Services Group, Global Support Services (GSS) Organization, including workers whose unemployment insurance (UI) wages are reported through Nortel Enterprises, Inc., and Avaya, Inc., including on-site leased workers from Kelly Services Inc., P/S Partner Solutions Ltd., Exceed Resources Inc., Real Soft, InfoQuest Consulting Group, CCSI Inc., ICONMA LLC, MGD Consulting, Inc., Case Interactive LLC., and Sapphire Technologies, Highlands Ranch, Colorado (TA-W-70,405), including employees in support of Avaya Inc., Worldwide Services Group, Global Support Services (GSS) Organization Highlands Ranch, Colorado working off-site in the States of Florida (TA-W-70,405A), California (TA-W-70,405B), South Carolina (TA-W-70,405C), Alabama (TA-W-70,405D), Michigan (TA-W-70,405E), Arizona (TA-W-70,405F), Ohio (TA-W-70,405G), Pennsylvania (TA-W-70,405H), North Carolina (TA-W-70,405I), Colorado (TA-W-70,405J), New York (TA-W-70,405K), Maryland (TA-W-70,405L), Georgia (TA-W-70,405M), New Jersey (TA-W-70,405N), Indiana (TA-W-70,405O), Tennessee (TA-W-70,405P), Wisconsin (TA-W-70,405Q), Oregon (TA-W-70,405R), Mississippi (TA-W-70,405S), Illinois (TA-W-70,405T), Texas (TA-W-70,405U), Iowa (TA-W-70,405V), Oklahoma (TA-W-70,405W), Washington (TA-W-70,405X), South Dakota (TA-W-70,405Y), Nevada (TA-W-70,405Z), New Hampshire (TA-W-70,405AA), Montana (TA-W-70,405BB), Virginia (TA-W-70,405CC), Massachusetts (TA-W-70,405DD), Connecticut (TA-W-70,405EE), and Nebraska (TA-W-70,405FF), who became totally or partially separated from who became totally or partially separated from employment on or after May 19, 2008, through September 11, 2011, and all workers in the group threatened with total or partial separation from employment on date of certification through two years from the date of certification, are eligible to apply for adjustment assistance under Chapter 2 of Title II of the Trade Act of 1974, as amended.

Signed at Washington, DC this 10th day of November 2010.
Elliott S. Kushner,
Certifying Officer, Division of Trade Adjustment Assistance.

[FR Doc. 2010-29095 Filed 11-17-10; 8:45 am]

BILLING CODE 4510-FN-P